DEPARTMENT OF LABOR

Employment and Training Administration

[TA-W-56,570]

Penn Mould Industries, Inc., Washington, PA; Notice of Revised Determination on Reconsideration

By letter dated April 18, 2005 United Steelworkers of America, District 10 requested administrative reconsideration regarding the Department's Negative Determination Regarding Eligibility to Apply for Worker Adjustment Assistance, applicable to the workers of the subject firm.

The initial investigation resulted in a negative determination signed on March 16, 2005 was based on the finding that imports of molding equipment for glass containers did not contribute importantly to worker separations at the subject plant and no shift of production to a foreign source occurred. The denial notice will soon be published in the Federal Register.

The petitioner provided additional information on subject firm's customers. The petitioner also brought to the Department's attention the fact that the subject firm has a sister company, Ross Mould, Inc., Washington, Pennsylvania, which manufactures the same products and shares the same customer base with the subject firm. Workers of Ross Mould, Inc., Washington, Pennsylvania were certified eligible for TAA on November 19, 2004 (TA-W-55,828).

Upon the review of the information obtained during the investigations of both the sister companies, it was revealed that subject firm's major declining customer increased its import purchases of molding equipment for glass containers while decreasing its purchases from the subject firm during the relevant period. It was also revealed that sales and employment have declined at the subject firm during the relevant time period.

In accordance with Section 246 the Trade Act of 1974 (26 U.S.C. 2813), as amended, the Department of Labor herein presents the results of its investigation regarding certification of eligibility to apply for alternative trade adjustment assistance (ATAA) for older workers.

In order for the Department to issue a certification of eligibility to apply for ATAA, the group eligibility requirements of Section 246 of the Trade Act must be met. The Department has determined in this case that the requirements of Section 246 have been met.

A significant number of workers at the firm are age 50 or over and possess skills that are not easily transferable. Competitive conditions within the industry are adverse.

Conclusion

After careful review of the initial investigation, I conclude that increased imports of articles like or directly competitive with those produced at Penn Mould Industries, Inc., Washington, Pennsylvania, contributed importantly to the declines in sales or production and to the total or partial separation of workers at the subject firm. In accordance with the provisions of the Act, I make the following certification:

All workers of Penn Mould Industries, Inc., Washington, Pennsylvania, who became totally or partially separated from employment on or after February 10, 2004 through two years from the date of this certification, are eligible to apply for adjustment assistance under Section 223 of the Trade Act of 1974, and are eligible to apply for alternative trade adjustment assistance under Section 246 of the Trade Act of 1974.

Signed in Washington, DC, this 28th day of April, 2005.
Elliott S. Kushner,
Certifying Officer, Division of Trade Adjustment Assistance.

[FR Doc. E5-2403 Filed 5-13-05; 8:45 am]

BILLING CODE 4510-30-P